DEPARTMENT OF ENERGY

Federal Energy Regulatory Commission

[Project No. 2237-013—Georgia]

Georgia Power Company; Morgan Falls Hydroelectric Project; Notice of Proposed Revised Restricted Service List for a Programmatic Agreement for Managing Properties Included in or Eligible for Inclusion in the National Register of Historic Places

April 26, 2006.

Rule 2010 of the Federal Energy Regulatory Commission's (Commission) Rules of Practice and Procedure provides that, to eliminate unnecessary expense or improve administrative efficiency, the Secretary may establish a restricted service list for a particular phase or issue in a proceeding.¹ The restricted service list should contain the names of persons on the service list who, in the judgment of the decisional authority establishing the list, are active participants with respect to the phase or issue in the proceeding for which the list is established.

¹ 18 CFR 385.2010.

The Commission staff is consulting with the Georgia State Historic Preservation Officer (hereinafter, SHPO) and the Advisory Council on Historic Preservation (hereinafter, Council) pursuant to the Council's regulations, 36 CFR part 800, implementing section 106 of the National Historic Preservation Act, as amended, (16 U.S.C. 470f), to prepare and execute a programmatic agreement for managing properties included in, or eligible for inclusion in, the National Register of Historic Places at the Morgan Falls Hydroelectric Project No. 2237-013 (SHPO Reference Number HP-040120-022).

The programmatic agreement, when executed by the Commission, the SHPO, and the Council, would satisfy the Commission's section 106 responsibilities for all individual undertakings carried out in accordance with the license until the license expires or is terminated (36 CFR 800.13e). The Commission's responsibilities pursuant to section 106 for the Morgan Falls Project would be fulfilled through the programmatic agreement, which the Commission proposes to draft in consultation with certain parties listed below.

The executed programmatic agreement would be incorporated into any Order issuing a license.

Georgia Power Company, as licensee for Project No. 2237, and the Muskogee (Creek) Nation of Oklahoma, the Poarch Band of Creek Indians, the Thlopthlocco Tribal Town, the Kialegee Tribal Town, the Alabama-Quassarte Tribal Town, the Seminole Indian Tribe, the Seminole Nation of Oklahoma, the Cherokee Nation, the Eastern Band of Cherokee Indians, the United Keetoowah Band of Cherokee Indians, and the National Park Service have expressed an interest in this preceding and are invited to participate in consultations to develop the programmatic agreement.

On January 6, 2006, we established a restricted service list for the Morgan Falls Project. Due to staff changes at the Seminole Nation of Oklahoma, the Eastern Band of Cherokee Indians, and the United Keetoowah Band of Cherokee Indians, we propose to remove Emman Spain, Michelle Hamilton, and Steve Mouse, respectively, from the restricted service list for the aforementioned project, and replace them with the following people:

Eastern Band of Cherokee Indians, Attention: Tyler Howe, THPO, Qualla Boundary, P.O. Box 455, Cherokee, NC 28719;

Pare Bowlegs, Historic Preservation Officer, Seminole Nation of Oklahoma, P.O. Box 1498, Wewoka, OK 74884; and

Lisa Stopp, Acting Tribal Historic Preservation Officer, United Keetoowah Band of Cherokee Indians, P.O. Box 746, 20525 S. Jules Valdez Rd., Tahlequah, OK 74464.

Any person on the official service list for the above-captioned proceeding may request inclusion on the restricted service list, or may request that a restricted service list not be established, by filing a motion to that effect within 15 days of this notice date. In a request for inclusion, please identify the reason(s) why there is an interest to be included. Also please identify any concerns about historic properties, including Traditional Cultural Properties. If historic properties are to be identified within the motion, please use a separate page, and label it NON-PUBLIC Information.

An original and 8 copies of any such motion must be filed with Magalie R. Salas, the Secretary of the Commission (888 First Street, NE., Washington, DC 20426) and must be served on each person whose name appears on the official service list. Please put the project name “Morgan Falls Project” and number “P-2237-013” on the front cover of any motion. If no such motions are filed, the restricted service list will be effective at the end of the 15 day period. Otherwise, a further notice will be issued ruling on any motion or motions filed within the 15 day period.

Magalie R. Salas,
Secretary.

[FR Doc. E6-6576 Filed 5-1-06; 8:45 am]

BILLING CODE 6717-01-P